DEPARTMENT OF COMMERCE

National Oceanic and Atmospheric Administration

RIN 0648-XE106

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a webinar that is open to the public.

DATES: The GMT meeting will be held Tuesday, September, 1, 2015, from 1 p.m. until business for the day is completed.

ADDRESSES: To attend the webinar, visit: http://www.gotomeeting.com/online/webinar/join-webinar. Enter the Webinar ID, which is 137-066-219, and your name and email address (required). Participants are encouraged to use their telephone, as this is the best practice to avoid technical issues and excessive feedback (see the PFMC GoToMeeting Audio Diagram for best practices). Please use your telephone for the audio portion of the meeting by dialing this TOLL number 1+562-247-8321 (not a toll-free number); then enter the Attendee phone audio access code: 692-754-402; then enter your audio phone pin (shown after joining the webinar). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to Mr. Kris Kleinschmidt or contact him at (503) 820-2280, extension 425 for technical assistance. A public listening station will also be provided at the Pacific Council office.

Council address: Pacific Council, 7700 NE. Ambassador Place, Suite 101, Portland, OR 97220-1384.

FOR FURTHER INFORMATION CONTACT: Ms. Kelly Ames, Pacific Council; telephone: (503) 820-2426.

SUPPLEMENTARY INFORMATION: The primary purpose of the GMT working meeting is to prepare for the September 2015 Pacific Council meeting. Specific agenda topics include inseason adjustments to groundfish fisheries, electronic monitoring regulations and exempted fishing permits updates, and development of a midwater sport fishery in Oregon and California. The GMT may also address other assignments relating to groundfish management. No management actions will be decided by the GMT. Public comment will be accommodated if time allows, at the discretion of the GMT Chair. The GMT's task will be to develop recommendations for consideration by the Pacific Council at its September 9-16, 2015 meeting in Sacramento, CA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2425 at least 5 days prior to the meeting date.

Dated: August 11, 2015.
Tracey L. Thompson,
Acting Deputy Director, Office of Sustainable Fisheries, National Marine Fisheries Service.

[FR Doc. 2015-20072 Filed 8-13-15; 8:45 am]

BILLING CODE 3510-22-P